DEPARTMENT OF THE TREASURY

Extension of Public Comment Period for Study on Information Sharing Practices Among Financial Institutions and Their Affiliates

AGENCY: Departmental Offices, Department of the Treasury.

ACTION: Extension of public comment period.

SUMMARY: The Department of the Treasury announces the extension of the public comment period to May 1, 2002, for the Study of Information Sharing Practices Among Financial Institutions and Their Affiliates.

DATES: The extended deadline for submitting comments is May 1, 2002.

ADDRESSES: All submissions must be in writing or in electronic form. Please send e-mail comments to study.comments@ots.treas.gov, or facsimile transmissions to FAX Number (202) 906-6518 re: GLBA Information Sharing Study. Comments sent by mail should be sent to: Regulations and Legislation Division, Chief Counsel's Office, Office of Thrift Supervision, 1700 G Street, NW., Washington, DC 20552, ATTN: Study on GLBA Information Sharing. (Senders should be aware that there have been some unpredictable and lengthy delays in postal deliveries to the Washington, DC area in recent weeks and may prefer to make electronic submissions.) Please see the Department of the Treasury's February 15, 2002 notice requesting public comments for further information concerning the submission of comments and their availability for inspection.

FOR FURTHER INFORMATION CONTACT: Susan Hart, Financial Economist, Office of Consumer Affairs and Community Policy, Department of the Treasury, (202) 622-0129; or Brian Tishuk, Acting Director, Office of Consumer Affairs and Community Policy, Department of the Treasury, (202) 622-2740.

SUPPLEMENTARY INFORMATION: On February 15, 2002, the Department of the Treasury issued a Notice and request for public comment (67 FR 7213) for this study, which began a 45-day public comment period. The original Notice set forth various questions regarding areas in which the Department of the Treasury seeks public comment. The original comment period expires on April 1, 2002. In response to public comments and to ensure that the public has ample opportunity to provide comments, the Department of the Treasury is extending the public comment period until May 1, 2002.

Dated: April 1, 2002.
Sheila C. Bair,
Assistant Secretary of the Treasury.

[FR Doc. 02-8204 Filed 4-4-02; 8:45 am]

BILLING CODE 4810-25-P